ENVIRONMENTAL PROTECTION AGENCY

40 CFR Part 271

[EPA-R09-RCRA-2019-0491; FRL-10003-98-Region 9]

California: Final Authorization of State Hazardous Waste Management Program Revisions

AGENCY: Environmental Protection Agency (EPA).

ACTION: Final authorization.

SUMMARY: The Environmental Protection Agency (EPA) is granting final authorization of the changes to the hazardous waste program submitted by California. As a result of EPA's authorization, California's revised program will become part of the authorized state hazardous waste program, and therefore will be federally enforceable. The single adverse comment received is outside the scope of the approval. As such, EPA concludes that no comments received on the subject of this action warrant any changes to the proposed authorization.

DATES: This final authorization is effective January 14, 2020.

FOR FURTHER INFORMATION CONTACT: Laurie Amaro, EPA Region 9, 75 Hawthorne St., San Francisco, CA 94105. By phone: (415) 972-3364 or by email at Amaro.Laurie@epa.gov.

SUPPLEMENTARY INFORMATION:

A. Authorization of Revisions to the California's Hazardous Waste Program

On July 10, 2019, California submitted a final complete program revision application seeking authorization of the State's changes relating to its “universal waste” program in accordance with 40 CFR 271.21. The Agency published a proposed rule on October 18, 2019 (84 FR 55871) and requested public comment. Most comments received were in support of the action; however, one comment was critical of the California Department of Toxic Substances Control's “enforcement actions against universal waste recyclers accepting appliances that contain MRSH.” We believe this comment refers to California requirements that materials that require special handling (MRSH) must be removed prior to processing major appliances for scrap metal (California Public Resources Code section 42175; Health and Safety Code section 25212) and related requirements for appliance recyclers to comply with California's Certified Appliance Recycler (CAR) Program (California Health and Safety Code section 25211, et seq.). These provisions are not included in this approval and may not be addressed by this action. Since the single adverse comment is outside of the scope of EPA's approval of the subject revisions to the State's hazardous waste program, we now make a final decision that California's hazardous waste program revisions satisfy all of the requirements necessary to qualify for final authorization. For a list of rules that are authorized with this final authorization, please see the proposed rule published in the October 18, 2019 Federal Register at 84 FR 55871.

B. What is codification and is EPA codifying California's hazardous waste program as authorized in this rule?

Codification is the process of placing the State's statutes and regulations that comprise the State's authorized hazardous waste program into the Code of Federal Regulations. EPA does this by referencing the authorized State rules in 40 CFR part 272. EPA is not codifying the authorization of California's revisions at this time. However, EPA reserves the amendment of 40 CFR part 272, subpart F, for the codification of California's program at a later date.

C. Statutory and Executive Order Reviews

This final authorization revises California's authorized hazardous waste management program pursuant to Section 3006 of RCRA and imposes no requirements other than those currently imposed by State law. For further information on how this authorization complies with applicable Executive orders and statutory provisions, please see the proposed rule published in the October 18, 2019 Federal Register at 84 FR 55871.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended, 42 U.S.C. 6912(a), 6926, and 6974(b).

Dated: December 18, 2019.
Deborah Jordan,
Acting Regional Administrator, Region 9.

[FR Doc. 2020-00180 Filed 1-13-20; 8:45 am]

BILLING CODE 6560-50-P